DEPARTMENT OF ENERGY

Federal Energy Regulatory Commission

Combined Notice of Filings #1

Take notice that the Commission received the following electric corporate filings:

Docket Numbers: EC18-86-000.

Applicants: Imperial Valley Solar 2, LLC.

Description: Application of Imperial Valley Solar 2, LLC for Transfer of Jurisdictional Facilities Under Section 203 of the Federal Power Act.

Filed Date: 4/18/18.

Accession Number: 20180418-5271.

Comments Due: 5 p.m. ET 5/9/18.

Take notice that the Commission received the following exempt wholesale generator filings:

Docket Numbers: EG18-75-000.

Applicants: CED Upton County Solar, LLC.

Description: Self-Certification of EG or FC of CED Upton County Solar, LLC.

Filed Date: 4/19/18.

Accession Number: 20180419-5161.

Comments Due: 5 p.m. ET 5/10/18.

Take notice that the Commission received the following electric rate filings:

Docket Numbers: ER10-2984-042.

Applicants: Merrill Lynch Commodities, Inc.

Description: Notice of Non-Material Change in Status of Merrill Lynch Commodities, Inc.

Filed Date: 4/18/18.

Accession Number: 20180418-5280.

Comments Due: 5 p.m. ET 5/9/18.

Docket Numbers: ER17-351-004; ER17-354-004; ER17-2162-003; ER17-2163-003.

Applicants: American Falls Solar, LLC, American Falls Solar II, LLC, SunE Beacon Site 2 LLC, SunE Beacon Site 5 LLC.

Description: Notice of Change in Status of American Falls Solar, LLC, et al.

Filed Date: 4/18/18.

Accession Number: 20180418-5279.

Comments Due: 5 p.m. ET 5/9/18.

Docket Numbers: ER18-1396-000.

Applicants: NorthWestern Corporation.

Description: Tariff Cancellation: Notice of Cancellation: SA 822 Utilities Agreement with MDT (Milk River) to be effective 4/19/2018.

Filed Date: 4/18/18.

Accession Number: 20180418-5242.

Comments Due: 5 p.m. ET 5/9/18.

Docket Numbers: ER18-1397-000.

Applicants: Southwest Power Pool, Inc.

Description: § 205(d) Rate Filing: 3294 Otter Tail Power Company NITSA and NOA Notice of Cancellation to be effective 1/1/2018.

Filed Date: 4/19/18.

Accession Number: 20180419-5124.

Comments Due: 5 p.m. ET 5/10/18.

Docket Numbers: ER18-1398-000.

Applicants: Southern California Edison Company.

Description: § 205(d) Rate Filing: Second Amended IFA re: City of Riverside Wilderness Substation to be effective 4/20/2018.

Filed Date: 4/19/18.

Accession Number: 20180419-5141.

Comments Due: 5 p.m. ET 5/10/18.

Docket Numbers: ER18-1399-000.

Applicants: PJM Interconnection, L.L.C.

Description: § 205(d) Rate Filing: Original Cost Responsibility Agreement, Service Agreement No. 5069, NQ161 to be effective 3/28/2018.

Filed Date: 4/19/18.

Accession Number: 20180419-5164.

Comments Due: 5 p.m. ET 5/10/18.

Docket Numbers: ER18-1400-000.

Applicants: Southern California Edison Company.

Description: Tariff Cancellation: Notice of Cancellation GIA & DSA SCEBESS-003 Project SA Nos. 962-963 to be effective 7/9/2018.

Filed Date: 4/19/18.

Accession Number: 20180419-5193.

Comments Due: 5 p.m. ET 5/10/18.

Docket Numbers: ER18-1401-000.

Applicants: Public Service Company of Colorado.

Description: § 205(d) Rate Filing: PSCo-WAPA-Multi CFA 350-Exb B 0.1.0 to be effective 6/19/2018.

Filed Date: 4/19/18.

Accession Number: 20180419-5203.

Comments Due: 5 p.m. ET 5/10/18.

Docket Numbers: ER18-1402-000.

Applicants: KCP&L Greater Missouri Operations Company.

Description: § 205(d) Rate Filing: Normal filing FERC NO 18 to be effective 5/1/2018.

Filed Date: 4/19/18.

Accession Number: 20180419-5245.

Comments Due: 5 p.m. ET 5/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2018.
Nathaniel J. Davis, Sr.,
Deputy Secretary.

[FR Doc. 2018-08611 Filed 4-24-18; 8:45 am]

BILLING CODE 6717-01-P